DEPARTMENT OF LABOR

Employment and Training Administration

[TA-W-50,225]

Unitek Electronics, Inc., Portland, OR; Notice of Revised Determination on Reopening

On March 24, 2003, the Department on its own motion reviewed the initial determination for workers and former workers of the subject firm engaged in the production of solid-state motor speed controls.

The initial investigation resulted in a negative determination issued on January 29, 2003 because imports did not contribute importantly to the worker separations. The notice was published in the Federal Register on February 24, 2003 (68 FR 8619).

New information submitted to the Department by the company and additional information supplied by a primary customer of the subject firm revealed that the customer has increased purchases of imported solid-state motor speed controls while reducing purchases from the subject firm.

Conclusion

After careful consideration of the new facts obtained on reopening, it is concluded that increased imports of articles like or directly competitive with solid-state motor speed controls produced by the subject firm contributed importantly to the decline in sales and to the total or partial separation of workers of the subject firm. In accordance with the provisions of the Trade Act of 1974, I make the following revised determination:

All workers of Unitek Electronics, Inc., Portland, Oregon, who became totally or partially separated from employment on or after November 29, 2001 through two years from the date of this certification are eligible to apply for adjustment assistance under Section 223 of the Trade Act of 1974.

Signed at Washington, DC this 27th day of March, 2003.
Edward A. Tomchick,
Director, Division of Trade Adjustment Assistance.

[FR Doc. 03-8853 Filed 4-9-03; 8:45 am]

BILLING CODE 4510-30-P